DEPARTMENT OF HEALTH AND HUMAN SERVICES

Centers for Disease Control and Prevention

National Health Education Enhancement Program

Announcement Type: Competing Continuation.

Funding Opportunity Number: RFA 05072.

Catalog of Federal Domestic Assistance Number: 93.283.

Letter of Intent Deadline: May 4, 2005.

Application Deadline: June 20, 2005.

Executive Summary: The purpose of the program is to strengthen the nation's capacity to carry out public health activities in the area of asthma education. More specifically, the objective is to provide appropriate resources for health education of patients and others impacted by asthma.

I. Funding Opportunity Description

Authority: This program is authorized under Sections 301 and 317 of the Public Health Service Act, (42 U.S.C. 241 and 247b), as amended.

Background: Although there are many asthma educational materials which have been produced and disseminated, there remain gaps in the availability and dissemination of materials which are targeted to adults, the elderly, rural populations, non-English speaking populations, adolescents, and other underserved and disparately impacted populations.

Purpose: The purpose of the program is to strengthen the nation's capacity to carry out public health activities in the area of asthma education. The objectives are to: (1) Review and disseminate currently available asthma educational materials to reach community members on a community, local and national level; and (2) modify existing, scientifically-proven-effective asthma educational materials to make them culturally and linguistically competent for targeted populations, and disseminate these materials on a national level to families impacted by asthma, particularly working with underserved and disparately impacted populations. This program addresses the “Healthy People 2010” focus area(s) of reducing asthma hospitalizations, deaths, and improving quality of life.

Measurable outcomes of the program will be in alignment with one (or more) of the following performance goal(s) for the National Center for Environmental Health (NCEH): To reduce the number of asthma hospitalizations, deaths, and emergency department visits.

This announcement is only for non-research activities supported by CDC. If research is proposed, the application will not be reviewed. For the definition of research, please see the CDC Web site at the following Internet address: http://www.cdc.gov/od/ads/opspoll1.htm.

Activities: Awardee activities for this program are as follows:

• Review and disseminate currently available asthma educational materials to reach applicant organization members and other community members on a national, local, and community level. The materials must be proven effective, and in accordance with sound asthma management practices and appropriate National Asthma Education and Prevention Program (NAEPP) Guidelines.

• In cases where appropriate, asthma educational materials do not exist for populations which are underserved and a need for such materials is identified, applicants should adapt or modify existing educational materials which have been scientifically proven effective, through appropriate, published research results. Resulting materials must be accurate, user-friendly, culturally and linguistically appropriate, and be used to educate the applicant organization's members and other members of the community, or any targeted group for which a gap in currently available educational materials is identified. Literacy level and appropriate demographics of your target audience must be considered.

• Conduct interactive community outreach education at the local level, aimed at your members and community members affected by asthma.

Present a plan by which you will measure the effectiveness of your proposed activities.

Collaborate with partners, including CDC and appropriate asthma education organizations, to ensure that best practices are used in the adaptation/modification and dissemination of asthma education materials for your target audiences.

In a cooperative agreement, CDC staff is substantially involved in the program activities, above and beyond routine grant monitoring.

CDC Activities for this program are as follows:

• Collaborate with recipients in the modification and adaptation of existing educational materials which have been scientifically proven effective through appropriate published research results. Ensure coordination of this activity among all recipients and facilitate information sharing.

• Review recipients' identification of currently available educational materials and gap analysis; and ensure coordination of this activity among all recipients, including information sharing and elimination of duplication of efforts among recipients.

• Facilitate and coordinate meetings to bring together national groups as collaborators, where appropriate.

• Collaborate with recipients on the development of an appropriate evaluation plan which measures the effectiveness of recipient activities involved in each step indicated, and approve the plan.

• Coordinate recipient activities with asthma education partners to ensure duplication of activities and efforts does not occur.

II. Award Information

Type of Award: Cooperative Agreement. CDC involvement in this program is listed in the Activities Section above.

Fiscal Year Funds: 2005.

Approximate Total Funding: $225,000 to $300,000. (This amount is an estimate, and is subject to availability of funds.)

Approximate Number of Awards: Three.

Approximate Average Award: $75,000 to 100,000. (This amount is for the first 12-month budget period, and includes both direct and indirect costs.)

Floor of Award Range: None.

Ceiling of Award Range: $100,000. (This ceiling is for the first 12-month budget period.)

Anticipated Award Date: August 31, 2005.

Budget Period Length: 12 months.

Project Period Length: 5 years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations such as:

• Public nonprofit organizations.

• Private nonprofit organizations.

• Community-based organizations.

• Faith-based organizations.

Assistance will be provided only to applicants that are well-established, national, non-profit organizations with experience in the development and dissemination of asthma educational materials; and whose membership includes families of adults or children with asthma, or others affected by the disease.

The justification for the foregoing limitation is the need for the applicant to have immediate access to a national audience, and existing expertise in the modification and dissemination of asthma educational materials to community members impacted by asthma, to insure they may access the greatest number of people in the shortest period of time.

To be eligible, applicants must:

1. Demonstrate that your organization's mission is explicitly committed to improving the lives of families impacted by asthma, or other similar lung diseases, through the provision of timely, accurate, and useful information about the disease and how it can be controlled. You must have experience providing asthma education to a nationwide audience. The foregoing may be demonstrated by submission of your charter, articles of incorporation, or other governing documents.

2. Demonstrate that your organization is non-profit and recognized as tax-exempt under Section 501(c)(3) of the Internal Revenue Code. This may be demonstrated through inclusion of your Internal Revenue Service determination letter.

3. Demonstrate that your organization has the capacity for and experience in providing educational services to families with asthma on a nationwide basis. This may be demonstrated through letters of support.

4. Demonstrate that your organization has the capacity for and experience providing educational services to families or a national network of local organizations. This may be demonstrated through a letter from your organization's leadership, which describes your national network/membership (number of members and national coverage of the membership).

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

CDC strongly encourages you to submit your application electronically by utilizing the forms and instructions posted for this announcement at http://www.grants.gov.

Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI): Your LOI must be written in the following format:

• Maximum number of pages: One.

• Font size: 12-point unreduced.

• Single spaced.

• Paper size: 8.5 by 11 inches.

• Page margin size: One inch.

• Printed only on one side of page.

• Written in plain language, avoid jargon.

Your LOI must contain the following information:

• Name and address of organization.

• Name, address, telephone number, fax number and e-mail address of the organization's primary contact for writing and submitting the application.

• A brief summary of the proposed project.

Application: You must submit a project narrative with your application forms. The narrative must be submitted in the following format:

• Maximum number of pages: 25 pages (not including attachments for purposes of establishing eligibility). If your narrative exceeds the page limit, only the first pages which are within the page limit will be reviewed.

• Font size: 12 point unreduced.

• Double spaced.

• Paper size: 8.5 by 11 inches.

• Page margin size: One inch.

• Printed only on one side of page.

• Pages shall be numbered sequentially, including your narrative and any appendices.

• Held together only by rubber bands or metal clips; not bound in any other way.

Your narrative should address activities to be conducted over the entire project period, and must include the following items in the order listed:

• History and Experience.

• Proposed Program.

• Evaluation Plan.

• Facilities, Staff and Resources.

• Budget and Justification.

• Documentation of eligibility, as follows:

a. Submit your charter, articles of incorporation, or other governing documents to demonstrate your organization's mission is explicitly committed to improving the lives of families impacted by asthma, or other similar lung diseases, through the provision of timely, accurate, and useful information about the disease and how it can be controlled.

b. Submit your Internal Revenue Service determination letter which will demonstrate your organization is non-profit and recognized as tax-exempt under Section 501(c)(3) of the Internal Revenue Code.

c. Submit letters of support, which will demonstrate that your organization has the capacity for and experience in providing educational services to families with asthma on a nationwide basis.

d. Submit a letter from your organization's leadership, which describes your national network/membership (number of members and national coverage of the membership).

The budget justification and documentation to establish eligibility will NOT be counted in the stated page limit.

Additional information may be included in the application appendices. The appendices will not be counted toward the narrative page limit. This additional information includes:

• Curriculum Vitae (of key staff positions).

• Letters of Support.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: May 4, 2005.

CDC requests that you send a LOI if you intend to apply for this program. Although the LOI is not required, not binding, and does not enter into the review of your subsequent application, the LOI will be used to gauge the level of interest in this program, and to allow CDC to plan the application review.

Application Deadline Date: June 20, 2005.

Explanation of Deadlines: Applications must be received in the CDC Procurement and Grants Office by 4 p.m. eastern time on the deadline date.

You may submit your application electronically at http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

If you submit a hard copy application, CDC will not notify you upon receipt of your submission. If you have a question about the receipt of your LOI or application, first contact your courier. If you still have a question, contact the PGO-TIM staff at: 770-488-2700. Before calling, please wait two to three days after the submission deadline. This will allow time for submissions to be processed and logged.

This announcement is the definitive guide on LOI and application content, submission address, and deadline. It supersedes information provided in the application instructions. If your submission does not meet the deadline above, it will not be eligible for review, and will be discarded. You will be notified that you did not meet the submission requirements.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used for research.

• Reimbursement of pre-award costs is not allowed.

If you are requesting indirect costs in your budget, you must include a copy of your federally approved indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or e-mail to: Sheri Disler, Centers for Disease Control and Prevention, National Center for Environmental Health, 1600 Clifton Road, MS E-17, Atlanta, GA 30303; telephone: 404-498-1018, Facsimile: 404-498-1088, e-mail address: SDisler@cdc.gov.

Application Submission Address: CDC strongly encourages applicants to submit electronically at: http://www.grants.gov. You will be able to download a copy of the application package from http://www.grants.gov, complete it offline, and then upload and submit the application via the Grants.gov site. E-mail submissions will not be accepted. If you are having technical difficulties in Grants.gov, they can be reached by e-mail at http://www.support@grants.gov or by phone at 1-800-518-4726. The Customer Support Center is open from 7 a.m. to 9 p.m. eastern time, Monday through Friday.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.”

The paper submission must conform to all requirements for non-electronic submissions. If both electronic and back-up paper submissions are received by the deadline, the electronic version will be considered the official submission.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

Or

Submit the original and two hard copies of your application by mail or express delivery service to: Technical Information Management—RFA 05072, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. History and Experience (30 Points)

The extent to which the proposal clearly demonstrates the applicant's solid reputation and history of serving families affected by asthma. The proposal should demonstrate that the applicant has a broad range of knowledge and expertise in the field of asthma, as well as significant years of experience in the dissemination and application of this knowledge and expertise. The proposal should also demonstrate that the applicant's membership is comprised of families affected by asthma, and that this membership is national in scope.

2. Proposed Program (30 Points)

The extent to which the proposal clearly demonstrates the applicant's understanding of the issues surrounding asthma and asthma education activities, and addresses gaps in the current state of asthma educational materials and activities. The proposal should demonstrate that the applicant has a clear understanding of the gaps and needs, and has a clear plan of activities, which will address these gaps. The applicant must demonstrate that their educational materials are in adherence to the NAEPP guidelines and, when these guidelines are updated, that materials are appropriately updated.

3. Evaluation Plan (30 Points)

The extent to which the applicant describes a realistic plan to accurately measure the effectiveness of their activities, and a plan to implement the quality improvements indicated by this method over the life of the project. This may include a discussion of efforts undertaken to measure the effectiveness of the applicant's existing outreach and educational activities.

4. Facilities, Staff and Resources (10 Points)

The extent to which the applicant can provide adequate facilities, staff, collaborators, and resources to accomplish the proposed goal(s) and objectives during the project period. The extent to which the applicant demonstrates staff and collaborator availability, expertise, previous experience, and capacity to perform the undertaking successfully.

5. Budget (Not Scored)

The extent to which the proposal demonstrates appropriateness and justification of the requested budget relative to the activities proposed.

V.2. Review and Selection Process

Applications will be reviewed for completeness by the Procurement and Grants Office (PGO) staff, and for responsiveness by the NCEH. Incomplete applications and applications that are non-responsive to the eligibility criteria will not advance through the review process. Applicants will be notified that their application did not meet submission requirements.

An objective review panel will evaluate complete and responsive applications according to the criteria listed in the “V.1. Criteria” section above. The objective review panel participants will be CDC employees, all of whom work outside the NCEH.

Applications will be funded in order by score and rank determined by the review panel.

V.3. Anticipated Announcement and Award Dates

Anticipated award date is August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 and Part 92. For more information on the Code of Federal Regulations, see the National Archives and Records Administration at the following Internet address: http://www.access.gpo.gov/nara/cfr/cfr-table-search.html.

The following additional requirements apply to this project:

• AR-7 Executive Order 12372.

• AR-8 Public Health System Reporting Requirements.

• AR-10 Smoke-Free Workplace Requirements.

• AR-11 Healthy People 2010.

• AR-12 Lobbying Restrictions.

• AR-14 Accounting System Requirements.

• AR-23 States and Faith-Based Organizations.

• AR-24 Health Insurance Portability and Accountability Act Requirements.

Additional information on these requirements can be found on the CDC Web site at the following Internet address: http://www.cdc.gov/od/pgo/funding/ARs.htm.

An additional Certifications form from the PHS5161-1 application needs to be included in your Grants.gov electronic submission only. Refer to http://www.grants.gov/od/pgo/funding/PHS5161-1Certificates.pdf. Once the form is filled out, attach it to your Grants.gov submission as Other Attachment Forms.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 30 days after the end of the budget period. The annual progress report must contain the following elements:

a. Current Budget Period Activities Objectives.

b. Lessons Learned.

3. Financial status report and annual progress report, no more than 90 days after the end of the budget period.

4. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341; telephone: 770-488-2700.

For program technical assistance, contact: Sheri Disler, Project Officer, 1600 Clifton Road, NE, MS E-17, Atlanta, GA 30303; telephone: 404-498-1018, e-mail: SDisler@cdc.gov.

For financial, grants management, or budget assistance, contact: Edna Green, Grants Management Specialist, CDC Procurement and Grants Office, 2920 Brandywine Road, Atlanta, GA 30341; telephone: 770-488-2743, e-mail: EGreen@cdc.gov.

VIII. Other Information

This and other CDC funding opportunity announcements can be found on the CDC Web site, Internet address: http://www.cdc.gov. Click on “Funding” then “Grants and Cooperative Agreements.”

Dated: April 14, 2005.
William P. Nichols,
Director, Procurement and Grants Office, Centers for Disease Control and Prevention.

[FR Doc. 05-7888 Filed 4-19-05; 8:45 am]

BILLING CODE 4163-18-P